DEPARTMENT OF THE INTERIOR

Fish and Wildlife Service

50 CFR Part 17

[FWS-R9-IA-2009-12]

[96100-1671-000-B6]

[RIN 1018-AV75]

Endangered and Threatened Wildlife and Plants; Proposed Rule To List Five Foreign Bird Species in Colombia and Ecuador, South America, Under the Endangered Species Act

AGENCY: Fish and Wildlife Service, Interior.

ACTION: Proposed rule; reopening of the public comment period.

SUMMARY: We, the U.S. Fish and Wildlife Service (Service), announce the reopening of the public comment period on our July 7, 2009, proposal to list four species of birds from Colombia — the blue-billed curassow (Crax alberti), the brown-banded antpitta (Grallaria milleri), the Cauca guan (Penelope perspicax), and the gorgeted wood-quail (Odontophorus strophium) — and one bird species from Ecuador — the Esmeraldas woodstar (Chaetocercus berlepschi) — as endangered under the Endangered Species Act of 1973, as amended (Act) (16 U.S.C. 1531 et seq.). This proposal, if made final, would extend the Act's protection to these species.

DATES: We are reopening the public comment period. To allow us adequate time to consider and incorporate submitted information into our review, we request that we receive information on or before December 10, 2009.

ADDRESSES: You may submit comments by one of the following methods:

• Federal eRulemaking Portal: http://www.regulations.gov. Follow the instructions for submitting comments.

• U.S. mail or hand-delivery: Public Comments Processing, Attn: FWS-R9-IA-2009-12; Division of Policy and Directives Management; U.S. Fish and Wildlife Service; 4401 N. Fairfax Drive, Suite 222; Arlington, VA 22203.

We will post all comments on http://www.regulations.gov. This generally means that we will post any personal information you provide us (see the Public Comments section below for more information).

FOR FURTHER INFORMATION CONTACT: Douglas Krofta, Chief, Branch of Listing, Endangered Species Program, U.S. Fish and Wildlife Service, 4401 N. Fairfax Drive, Room 420, Arlington, VA 22203; telephone 703-358-2171; facsimile 703-358-1735. If you use a telecommunications device for the deaf (TDD), you may call the Federal Information Relay Service (FIRS) at 800-877-8339.

SUPPLEMENTARY INFORMATION:

Public Comments

We reopen the public comment period on our July 7, 2009, proposal (74 FR 32308) to list four species of birds from Colombia — the blue-billed curassow (Crax alberti), the brown-banded antpitta (Grallaria milleri), the Cauca guan (Penelope perspicax), and the gorgeted wood-quail (Odontophorus strophium) — and one bird species from Ecuador — the Esmeraldas woodstar (Chaetocercus berlepschi) — as endangered under the Act (16 U.S.C. 1531 et seq.). Some peer review comments have already been received during the initial comment period on the proposal and may be found at http://www.regulations.gov. In order to allow for additional peer review, we are reopening the comment period for an additional 30 days. Comments previously received on this proposal need not be resubmitted, as they are already incorporated in the public record and will be fully considered in the final determination. We request information from the public, other concerned governmental agencies, the scientific community, industry, or any other interested parties concerning the status of these species. We are seeking information regarding:

(1) Biological, commercial trade, or other relevant data concerning any threats (or lack thereof) to these species and regulations that may be addressing those threats.

(2) Additional information concerning the taxonomy, range, distribution, and population size of these species, including the locations of any additional populations of these species.

(3) Any information on the biological or ecological requirements of these species.

(4) Current or planned activities in the areas occupied by these species and possible impacts of these activities on these species.

(5) Any information concerning the effects of climate change on these species or their habitats.

Please note that submissions merely stating support for or opposition to the action under consideration without providing supporting information, although noted, will not be considered in making a determination, as section 4(b)(1)(A) of the Act directs that determinations as to whether any species is a threatened or endangered species must be made “solely on the basis of the best scientific and commercial data available.” Information previously submitted need not be resubmitted as it has already been incorporated into the public record and will be fully considered.

You may submit your comments and materials by one of the methods listed in the ADDRESSES section.

If you submit information via http://www.regulations.gov, your entire submission—including any personal identifying information—will be posted on the website. If your submission is made via a hardcopy that includes personal identifying information, you may request at the top of your document that we withhold this information from public review. However, we cannot guarantee that we will be able to do so. We will post all hardcopy submissions on http://www.regulations.gov. Please include sufficient information with your comments to allow us to verify any scientific or commercial information you include.

Comments and materials we receive, as well as supporting documentation we used in preparing our proposed rule, will be available for public inspection on http://www.regulations.gov, or by appointment, during normal business hours, at the U.S. Fish and Wildlife Service, Endangered Species Program, 4401 N. Fairfax Drive, Room 420, Arlington, VA 22203; telephone 703-358-2171 (see FOR FURTHER INFORMATION CONTACT).

Background

On July 7, 2009, we published a proposed rule to list five foreign bird species in Colombia and Ecuador, South America as endangered throughout their range under the Act: four species of birds from Colombia — the blue-billed curassow (Crax alberti), the brown-branded antpitta (Grallaria milleri), the Cauca guan (Penelope perspicax), and the gorgeted wood-quail (Odontophorus strophium) - and one bird species from Ecuador - the Esmeraldas woodstar (Chaetocercus berlepschi) (74 FR 32308). This proposal, if made final, would extend the Act's protection to these species. The Service seeks data and comments from the public on our proposed rule. We received multiple peer review comments. In order to allow for the public to review these comments and have an opportunity to comment, we are reopening the public comment period for 30 days.

Authority

The authority for this action is section 4 of the Endangered Species Act of 1973, as amended (16 U.S.C. 1531 et seq.).

Dated: November 3, 2009
Rowan W. Gould,
Deputy Director, U.S. Fish and Wildlife Service

[FR Doc. E9-27056 Filed 11-9-09; 8:45 am]

BILLING CODE 4310-55-S